DEPARTMENT OF AGRICULTURE

Food Safety and Inspection Service

[Docket No. 03-010N]

International Meat and Poultry Food Safety Conference

AGENCY: Food Safety and Inspection Service, USDA.

ACTION: Notice of public meeting.

SUMMARY: The U.S. Department of Agriculture, Food Safety and Inspection Service (FSIS), will hold an international food safety conference on March 27, 2003. The purpose of the conference is to share perspectives on various food safety issues, discuss strategies to improve food safety worldwide and serve as a forum for fostering relationships to promote food safety.

DATES: The conference is scheduled for Thursday, March 27, 2003, from 8:30 a.m. to 5 p.m.

ADDRESSES: The conference will be held at the Pan American Health Organization, 525 23rd Street, NW., Washington, DC 20037. A tentative agenda will be available in the FSIS Docket Room and on the FSIS Web site at <http://www.fsis.usda.gov/>. The official transcript of the meeting, when it becomes available, will be kept in the FSIS Docket Room, Room 102, Cotton Annex, 300 12th Street, SW., Washington, DC 20250-3700.

FOR FURTHER INFORMATION CONTACT: Karen Stuck at (202) 720-3473. Pre-registration for this meeting is suggested but not required. To register for the meeting, please contact Sheila Johnson at (202) 690-6498, fax: (202) 690-6500, or email: Sheila.johnson@fsis.usda.gov. You may also register on-site. Persons requiring a sign language interpreter or other special accommodations should notify Ms. Mary Harris, by March 21, 2003, at (202) 690-6497.

SUPPLEMENTARY INFORMATION:

Background

The International Meat and Poultry Food Safety Conference will be an open forum to provide information on challenges faced by the international food safety community and varying approaches to the control of such challenges. Increased international trade in food products presents unique challenges in ensuring food safety. Meeting consumer expectations is a challenge facing food manufacturers and food regulators alike.

Public Meeting

The U.S. Department of Agriculture, Food Safety and Inspection Service will sponsor the International Meat and Poultry Food Safety Conference. This conference will allow experts and stakeholders to engage in an interactive sharing and learning experience, and to gain information and ideas to support the common goal of enhancing global food safety. The conference will be divided into three main sections: regional perspectives, scientific perspectives, and assistance and outreach. Examples of topics include a global perspective on multi-drug resistant pathogens, experiences with assisting small plants in meeting food safety requirements, and biosecurity. Speakers from various countries and international organizations are being invited.

Additional Public Notification

Public awareness of all segments of rulemaking and policy development is important. Consequently, in an effort to better ensure that minorities, women, and persons with disabilities are aware of this notice; FSIS will announce it and make copies of this Federal Register publication available through the FSIS Constituent Update. FSIS provides a weekly Constituent Update, which is communicated via Listserv, a free e-mail subscription service. In addition, the update is available on-line through the FSIS Web page located at <http://www.fsis.usda.gov/>. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information, contact the Congressional and Public Affairs Office, at (202) 720-9113. To be added to the free e-mail subscription service (Listserv) go to the “Constituent Update” page on the FSIS Web site at <http://www.fsis.usda.gov/oa/update/update.htm>. Click on the Subscribe to the Constituent Update Listserv” link, then fill out and submit the form.

Done at Washington, DC, on: March 21, 2003.
William C. Smith,
Acting Administrator.

[FR Doc. 03-7336 Filed 3-24-03; 12:26 pm]

BILLING CODE 3410-DM-P